INTERNATIONAL TRADE COMMISSION

[Investigation No. 731-TA-130 (Fifth Review)]

Chloropicrin From China; Termination of Five-Year Review

AGENCY: United States International Trade Commission.

ACTION: Notice.

SUMMARY: The Commission instituted the subject five-year review on August 3, 2020 (85 FR 46722) to determine whether revocation of the antidumping duty order on chloropicrin from China would be likely to lead to continuation or recurrence of material injury. The Department of Commerce issued notice that it was revoking the order effective September 22, 2020, because the domestic interested parties did not file a timely response in this review (see Chloropicrin from the People's Republic of China: Final Results of Sunset Review and Revocation of Order, issued November 2, 2020).

DATES: Applicable September 22, 2020 (effective date of revocation of order).

FOR FURTHER INFORMATION CONTACT: Jason Duncan (202-205-3432), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: November 5, 2020.
Lisa Barton,
Secretary to the Commission.

[FR Doc. 2020-24983 Filed 11-10-20; 8:45 am]

BILLING CODE 7020-02-P